DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed extension of the “Well-being Supplement to the American Time Use Survey.” A copy of the proposed information collection request (ICR) can be obtained by contacting the individual listed below in the ADDRESSES section of this notice.

DATES: Written comments must be submitted to the office listed in the Addresses section of this notice on or before March 12, 2013.

ADDRESSES: Send comments to Amelia Vogel, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Amelia Vogel, BLS Clearance Officer, at 202-691-7628 (this is not a toll free number). (See Addresses section.)

SUPPLEMENTARY INFORMATION:

I. Background

The American Time Use Survey (ATUS) is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS is used to develop nationally representative estimates of how people spend their time. This is done by collecting a time diary about the activities survey respondents did over a 24-hour period “yesterday,” from 4 a.m. on the day before the interview until 4 a.m. on the day of the interview. In the one-time interview, respondents also report who was with them during the activities, where they were, how long each activity lasted, and if they were paid. All of this information has numerous practical applications for sociologists, economists, educators, government policymakers, businesspersons, health researchers, and others.

The Well-being Module, a supplement to the ATUS, provides an additional dimension to data on time use by providing information about how Americans experience their time. Specifically, the Module collects information about how happy, tired, sad, and stressed individuals were yesterday, and the degree to which they felt pain, for three activities randomly selected from the time diary. The Well-being Module also collects data on whether people were interacting with anyone while doing the selected activities and how meaningful the activities were to them. Some general health questions, a question about overall life satisfaction, and a question about respondents' overall affective experience yesterday also are asked.

Information collected in the Well-being Module will be published as a public data set to facilitate research on numerous topics, such as: How people experience time spent in different activities, times of social interaction, and pain; the relationship between health and time use; and the relationship between evaluative and experienced well-being. The Well-being Module supports the mission of the Bureau of Labor Statistics to provide relevant information on economic and social issues by providing a richer understanding of Americans' use of time and workers' affective experiences. For example, the data facilitate research on how workers experience pain on and off the job and whether this experience varies by occupation.

The data also closely support the mission of the Module's sponsor, the National Institute on Aging (NIA) of the National Institutes of Health, to improve the health and well-being of older Americans. For example, data from the Well-being Module facilitate research on the relationship between well-being and health for persons at different stages in life and with varying individual characteristics. The data also can be used to examine the experience of pain and aging.

II. Current Action

Office of Management and Budget clearance is being sought to extend the collection of the ATUS Well-being Module—a supplement to the ATUS—for an additional six months, through December 2013. The proposed extension of the Well-being Module will facilitate more robust and in-depth analysis on key topics of interest to the supplement's sponsor: The relationship between evaluative and experienced well-being and the health and well-being of eldercare providers. These topics only can be studied with the 2012 and later data because questions on eldercare and life evaluation were not a part of the ATUS and Well-being Module when the first wave was collected in 2010.

A question on life satisfaction and another that measures respondents' overall emotional experience yesterday were added to the second wave of the Well-being Module which began in January 2012. Additionally, questions to identify eldercare and eldercare activities in the time diary were added to the main ATUS in 2011. The well-being of eldercare providers is of interest to the NIA and policy makers because the elderly population is growing, along with a reliance on informal care providers to assist them. An extension of the collection period for the Well-being Module would provide researchers with two full years of supplementary data for the full Well-being questionnaire and corresponding data on eldercare from the ATUS. Additional data also would facilitate analysis of the well-being of other subpopulations, beyond eldercare providers.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Extension without change of a currently approved collection.

Agency: Bureau of Labor Statistics.

Title: Well-being Supplement to the American Time Use Survey.

OMB Number: 1220-0185.

Affected Public: Individuals or Households.

Total Respondents: 6,400.

Frequency: One time.

Total Responses: 6,400.

Average Time per Response: 5 minutes.

Estimated Total Burden Hours: 533 hours.

Total Burden Cost (capital/startup): $0.

Total Burden Cost (operating/maintenance): $0.

Comments submitted in response to this notice will be summarized and/or included in the request for Office of Management and Budget approval of the information collection request; they also will become a matter of public record.

Signed at Washington, DC, this 7th day of January 2013.
Eric Molina,
Acting Chief, Division of Management Systems, Bureau of Labor Statistics.

[FR Doc. 2013-00390 Filed 1-10-13; 8:45 am]

BILLING CODE 4510-24-P